DEPARTMENT OF AGRICULTURE

Forest Service

Forest Resource Coordinating Committee

AGENCY: Forest Service, USDA.

ACTION: Notice of meeting.

SUMMARY: The Forest Resource Coordinating Committee Meeting will meet in Rosslyn, Virginia. The Committee is authorized under Section 8005 of the Food, Conservation, and Energy Act of 2008 (the Act) (Pub. L. 110-246). The purpose of the Committee is to provide direction and coordination of actions within the Department of Agriculture, and coordination with State agencies and the private sector, to effectively address the national priorities for non-industrial private forest land. The purpose of this meeting is to develop recommendations to submit to the Secretary regarding alignment of landowner assistance delivery systems, forest inventory and analysis, markets, climate change adaptation, forest conditions, threats to forest health, and landscape scale conservation and management. The meeting is open to the public.

DATES: The meeting will be held on October 17-18, 2013 from 8:30 a.m. to 5:00 p.m. All meetings are subject to change or cancellation.

ADDRESSES: The meeting will be held at the USDA Forest Service, 1621 North Kent Street, Conference Room 703/704, Arlington, Virginia. Written comments may be submitted as described under SUPPLEMENTARY INFORMATION. All comments, including names and addresses when provided, are placed in the record and are available for public inspection and copying. The public may inspect comments received on the Forest Resource Coordinating Committee Web site at http://www.fs.fed.us/spf/coop/frcc/. Visitors are encouraged to call ahead to 202-205-1043 to facilitate entry into the meeting room.

FOR FURTHER INFORMATION CONTACT: Maya Solomon, Forest Resource Coordinating Committee Program Coordinator, Cooperative Forestry Staff, 202-205-1376 or Ted Beauvais, Forest Resource Coordinating Committee Designated Federal Officer, Cooperative Forestry Staff, 202-205-1190. Individuals who use telecommunication devices for the deaf (TDD) may call the Federal Information Relay Service (FIRS) at 1-800-877-8339 between 8:00 a.m. and 8:00 p.m., Eastern Standard Time, Monday through Friday.

SUPPLEMENTARY INFORMATION: Additional information on the Forest Resource Coordinating Committee can be found by visiting the Committee's Web site at: http://www.fs.fed.us/spf/coop/frcc/. Anyone who would like to bring related matters to the attention of the Committee may file written statements with the Committee staff by October 10, 2013. The agenda will include time for people to make oral statements of three minutes or less. Individuals wishing to make an oral statement should request in writing within one week of each scheduled meeting to be scheduled on the agenda. Written comments and requests for time for oral comments must be sent to Maya Solomon, Forest Resource Coordinating Committee Program Coordinator at 1400 Independence Ave. SW., mailstop 1123, Washington, DC 20250; by email to mayasolomon@fs.fed.us. A summary of the meeting will be posted at http://www.fs.fed.us/spf/coop/frcc within 21 days after the meeting.

Meeting Accommodations: If you are a person requiring reasonable accommodation, please make requests in advance for sign language interpreting, assistive listening devices or other reasonable accommodations for access to the facility or proceedings by contacting the person listed under the For Further Information Contact. All reasonable accommodation requests are managed on a case by case basis.

Dated: September 10, 2013.
Paul Ries,
Associate Deputy Chief.

[FR Doc. 2013-22525 Filed 9-16-13; 8:45 am]

BILLING CODE 3410-11-P